ENVIRONMENTAL PROTECTION AGENCY

40 CFR Part 52

[EPA-R09-OAR-2023-0036; FRL-10790-02-R9]

Air Plan Revisions; California; Sacramento Metropolitan Air Quality Management District

AGENCY: Environmental Protection Agency (EPA).

ACTION: Final rule.

SUMMARY: The Environmental Protection Agency (EPA) is taking final action to partially approve and partially disapprove a revision to the Sacramento Metropolitan Air Quality Management District (SMAQMD) portion of the California State Implementation Plan (SIP). The revision concerns the SMAQMD's demonstration regarding reasonably available control technology (RACT) requirements and negative declarations for the 2008 8-hour ozone National Ambient Air Quality Standards (NAAQS or “standards”) in the portion of the Sacramento Metropolitan nonattainment area under the jurisdiction of the SMAQMD. We are also correcting sections in the Code of Federal Regulations (CFR) to reflect the current status of certain provisions of the SMAQMD portions of the California SIP related to the 1997 8-hour ozone NAAQS.

DATES: This rule is effective July 31, 2023.

ADDRESSES: The EPA has established a docket for this action under Docket ID No. EPA-R09-OAR-2023-0036. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: Eugene Chen, EPA Region IX, 75 Hawthorne St., San Francisco, CA 94105. By phone: (415) 947-4304 or by email at chen.eugene@epa.gov.

SUPPLEMENTARY INFORMATION: Throughout this document, “we,” “us” and “our” refer to the EPA.

Table of Contents

I. Proposed Action

II. Public Comments and EPA Responses

III. EPA Action

IV. Statutory and Executive Order Reviews

I. Proposed Action

On April 5, 2023 (88 FR 20086), the EPA proposed to partially approve and partially disapprove the California Air Resources Board's (CARB) submittals of the SMAQMD's 2017 RACT SIP for the 2008 Ozone National Ambient Air Quality Standards (NAAQS), as listed in Table 1 below.

Table 1—Submitted Documents
Local agency | Document | Adopted | Submitted
SMAQMD | Demonstration of Reasonably Available Control Technology for the 2008 Ozone National Ambient Air Quality Standard (NAAQS) (“2017 RACT SIP”) | 03/23/2017 | 05/05/2017

We proposed to partially approve SMAQMD's 2017 RACT SIP and negative declarations because we determined that, except for the RACT element for non-CTG major sources of NOX, they complied with the relevant CAA requirements. We proposed to partially disapprove SMAQMD's 2017 RACT SIP because several of the District rules relied upon to implement RACT for non-CTG major sources of NOX contain provisions that are not consistent with EPA's Startup, Shutdown, and Malfunction (SSM) Policy. District Rule 413 (Stationary Gas Turbines) contains a provision that explicitly exempts affected units from complying with rule standards during periods of startup and shutdown and does not provide for an alternative emissions limitation during such periods. District Rule 411 (NOX from Boilers, Process Heaters, and Steam Generators) and Rule 419 (NOX from Miscellaneous Combustion Units) both contain monitoring provisions that preclude the use of specified data for compliance determinations during periods of startup and shutdown. As discussed in greater detail in our proposed action, the provisions in these three rules are inconsistent with EPA policy and Clean Air Act requirements, and represent the basis for our partial disapproval.

II. Public Comments and EPA Responses

The EPA's proposed action provided a 30-day public comment period. During this period, we received no comments.

III. EPA Action

No comments were submitted on the proposed action, and there is no change to our assessment of the SIP submittals as described in our proposed action. Therefore, as authorized in section 110(k)(3) of the Act, the EPA is partially disapproving SMAQMD's 2017 RACT SIP with respect to the RACT element for the 2008 ozone NAAQS for non-CTG major sources of NOX, and partially approving the remainder of SMAQMD's 2017 RACT SIP and negative declarations as meeting the RACT requirement for the 2008 ozone NAAQS for the remaining categories. Table 2 summarizes our final action on the RACT elements for the 2008 ozone NAAQS.

Table 2—List of RACT Elements—2008 Ozone NAAQS
CTG document No. | RACT element | District rule implementing RACT | Negative declaration submitted | EPA final action
EPA-450/R-75-102 | Design Criteria for Stage I Vapor Control—Gasoline Service Stations | 448 (Gasoline Transfer Into Stationary Storage Containers) |  | Approval.
EPA-450/2-77-008 | Surface Coating of Cans | 452 (Can Coating) |  | Approval.
EPA-450/2-77-008 | Surface Coating of Coils |  | Yes | Approval.
EPA-450/2-77-008 | Surface Coating of Paper |  | Yes | Approval.
EPA-450/2-77-008 | Surface Coating of Fabric |  | Yes | Approval.
EPA-450/2-77-008 | Surface Coating of Automobiles and Light-Duty Trucks |  | Yes | Approval.
EPA-450/2-77-022 | Solvent Metal Cleaning | 454 (Degreasing Operations) |  | Approval.
EPA-450/2-77-025 | Refinery Vacuum Producing Systems, Wastewater Separators, and Process Unit Turnarounds |  | Yes | Approval.
EPA-450/2-77-026 | Tank Truck Gasoline Loading Terminals | 447 (Organic Liquid Loading) |  | Approval.
EPA-450/2-77-032 | Surface Coating of Metal Furniture | 451 (Surface Coating of Miscellaneous Metal Parts and Products) |  | Approval.
EPA-450/2-77-033 | Surface Coating of Insulation of Magnet Wire |  | Yes | Approval.
EPA-450/2-77-034 | Surface Coating of Large Appliances |  | Yes | Approval.
EPA-450/2-77-035 | Bulk Gasoline Plants | 447 (Organic Liquid Loading) |  | Approval.
EPA-450/2-77-036 | Storage of Petroleum Liquids in Fixed-Roof Tanks | 446 (Storage of Petroleum Products) |  | Approval.
EPA-450/2-77-037 | Cutback Asphalt | 453 (Cutback and Emulsified Asphalt Paving Materials) |  | Approval.
EPA-450/2-78-015 | Surface Coating of Miscellaneous Metal Parts and Products | 451 (Surface Coating of Miscellaneous Metal Parts and Products) |  | Approval.
EPA-450/2-78-029 | Manufacture of Synthesized Pharmaceutical Products | 464 (Organic Chemical Manufacturing Operations) |  | Approval.
EPA-450/2-78-030 | Manufacture of Pneumatic Rubber Tires |  | Yes | Approval.
EPA-450/2-78-032 | Factory Surface Coating of Flat Wood Paneling |  | Yes | Approval.
EPA-450/2-78-033 | Graphic Arts—Rotogravure and Flexography | 450 (Graphic Arts Operations)—Flexography only | Yes—Rotogravure only | Approval.
EPA-450/2-78-036 | Leaks from Petroleum Refinery Equipment |  | Yes | Approval.
EPA-450/2-78-047 | Petroleum Liquid Storage in External Floating Roof Tanks | 446 (Storage of Petroleum Products) |  | Approval.
EPA-450/2-78-051 | Leaks from Gasoline Tank Trucks and Vapor Collection Systems | 447 (Organic Liquid Loading); 448 (Gasoline Transfer Into Stationary Storage Containers) |  | Approval.
EPA-450/3-82-009 | Large Petroleum Dry Cleaners |  | Yes | Approval.
EPA-450/3-83-006 | Leaks from Synthetic Organic Chemical Polymer and Resin Manufacturing Equipment | 443 (Leaks from Synthetic Organic Chemical and Polymer Manufacturing) |  | Approval.
EPA-450/3-83-007 | Leaks from Natural Gas/Gasoline Processing Plants |  | Yes | Approval.
EPA-450/3-83-008 | Manufacture of High-Density Polyethylene, Polypropylene, and Polystyrene Resins |  | Yes | Approval.
EPA-450/3-84-015 | Air Oxidation Processes in Synthetic Organic Chemical Manufacturing Industry |  | Yes | Approval.
EPA-450/4-91-031 | Reactor Processes and Distillation Operations in Synthetic Organic Chemical Manufacturing Industry | 464 (Organic Chemical Manufacturing Operations) |  | Approval.
EPA-453/R-96-007 | Wood Furniture Manufacturing Operations |  | Yes | Approval.
EPA-453/R-94-032; 61 FR 44050; 8/27/96 | ACT Surface Coating at Shipbuilding and Ship Repair Facilities; Shipbuilding and Ship Repair Operations (Surface Coating) |  | Yes | Approval.
EPA-453/R-97-004; 59 FR 29216; 6/06/94 | Aerospace MACT and Aerospace (CTG & MACT) |  | Yes | Approval.
EPA-453/R-06-001 | Industrial Cleaning Solvents | 466 (Solvent Cleaning) |  | Approval.
EPA-453/R-06-002 | Offset Lithographic Printing and Letterpress Printing | 450 (Graphic Arts Operations) |  | Approval.
EPA-453/R-06-003 | Flexible Package Printing | 450 (Graphic Arts Operations) |  | Approval.
EPA-453/R-06-004 | Flat Wood Paneling Coatings |  | Yes | Approval.
EPA 453/R-07-003 | Paper, Film, and Foil Coatings |  | Yes | Approval.
EPA 453/R-07-004 | Large Appliance Coatings |  | Yes | Approval.
EPA 453/R-07-005 | Metal Furniture Coatings | 451 (Surface Coating of Miscellaneous Metal Parts and Products) |  | Approval.
EPA 453/R-08-003 | Miscellaneous Metal Parts Coatings; Table 2—Metal Parts and Products | 451 (Surface Coating of Miscellaneous Metal Parts and Products) |  | Approval.
EPA 453/R-08-003 | Miscellaneous Plastic Parts Coatings; Table 3—Plastic Parts and Products | 468 (Surface Coating of Plastic Parts and Products) |  | Approval.
EPA 453/R-08-003 | Miscellaneous Plastic Parts Coatings; Table 4—Automotive/Transportation and Business Machine Plastic Parts | 468 (Surface Coating of Plastic Parts and Products) |  | Approval.
EPA 453/R-08-003 | Miscellaneous Plastic Parts Coatings; Table 5—Pleasure Craft Surface Coating |  | Yes | Approved November 19, 2020 (85 FR 73640).ᵃ
EPA 453/R-08-003 | Miscellaneous Plastic Parts Coatings; Table 6—Motor Vehicle Materials | 459 (Automotive, Truck, and Heavy Equipment Refinishing Operations) |  | Approval.
EPA 453/R-08-004 | Fiberglass Boat Manufacturing Materials |  | Yes | Approval.
EPA 453/R-08-005 | Miscellaneous Industrial Adhesives |  | Yes | Approval.
EPA 453/R-08-006 | Automobile and Light-Duty Truck Assembly Coatings |  | Yes | Approval.
| Non-CTG Major Sources of NOX | 411 (NOX from Boilers, Process Heaters, and Steam Generators); 412 (Stationary Internal Combustion Engines); 413 (Stationary Gas Turbines); 419 (NOX from Miscellaneous Combustion Units) |  | Disapproval.ᵇ
| Non-CTG Major Sources of VOC | Source-specific Requirements |  | Approval.
ᵃ The regulatory text for the Code of Federal Regulations (CFR) associated with our November 19, 2020 approval did not specify that the approval pertained to the 2008 8-hour ozone NAAQS. The state's submittal, however, is clear that its negative declaration was for the 2008 8-hour ozone NAAQS and was adopted and submitted in part to stop sanctions clocks associated with our February 3, 2017 Finding of Failure to Submit a RACT demonstration for that NAAQS (82 FR 9158). In the CFR text for this final action, we are removing any ambiguity by clarifying that our 2020 approval addressed the 2008 8-hour ozone NAAQS.
ᵇ As described in greater detail in our Technical Support Document (Docket Item B-01), our disapproval for the non-CTG major sources of NOX element is based in the deficiencies noted in Rules 411 and 413, as well as the lack of SIP-approved RACT level controls for the Mitsubishi Chemical and Carbon Fiber Composites facility due to the deficiencies noted in the submitted version of Rule 419.

We are also correcting an error in the CFR concerning previous disapprovals for SMAQMD's 2006 RACT SIP for the 1997 8-hour ozone NAAQS that are codified in 40 CFR 52.237(b)(1)(i). SMAQMD has since addressed these disapprovals, but in our rulemakings approving SMAQMD's submittals to address these disapprovals, we failed to remove the language in the CFR that codified the disapprovals, which could result in public confusion about the status of the California SIP.

On December 4, 2017, the EPA published two final rules entitled “Approval of California Air Plan Revisions, Sacramento Metropolitan Air Quality Management District” (82 FR 57123 and 82 FR 57130) which approved revisions to the SMAQMD portion of the California SIP. The approved revisions fixed the deficiencies identified in our partial disapproval of SMAQMD's 2006 RACT SIP for the 1997 8-hour ozone NAAQS (81 FR 53280, August 12, 2016) with respect to the requirement to establish RACT-level controls for sources covered by the pharmaceutical products manufacturing category, as well as source-specific VOC requirements for the Kiefer Landfill. However, the EPA's final rules inadvertently failed to include amendatory instructions to remove these identified elements from the regulatory text at 40 CFR 52.237(b)(1)(i), where they are listed as disapproved elements of SMAQMD's 2006 RACT SIP. This action corrects the regulatory text to reflect the current status of SMAQMD's RACT obligations for the 1997 8-hour ozone NAAQS.

The EPA has determined that this action to correct the regulatory text related to these disapprovals falls under the “good cause” exemption in section 553(b)(3)(B) of the Administrative Procedure Act (APA) which, upon finding “good cause,” authorizes agencies to dispense with public participation where public notice and comment procedures are impracticable, unnecessary, or contrary to public interest. Public notice and comment for this action to correct regulatory text is unnecessary because the underlying rules were already subject to a 30-day comment period, the final actions on these rules state that the deficiencies were cured, and this action is merely updating the regulatory text accordingly. Further, this action is consistent with the purpose and rationale of the final rules. Because this action does not change the EPA's analyses or overall actions, no purpose would be served by additional public notice and comment. Consequently, additional public notice and comment are unnecessary.

IV. Statutory and Executive Order Reviews

Under the CAA, the Administrator is required to approve a SIP submission that complies with the provision of the Act and applicable federal regulations. 42 U.S.C. 740(k); 40 CFR 52.02(a). Thus, in reviewing SIP submissions, the EPA's role is to review state choices, and approve those choices if they meet the minimum criteria of the Act. Accordingly, this final action partially approves and partially disapproves state law as meeting federal requirements and does not impose additional requirements beyond those imposed by state law.

Additional information about these statutes and Executive Orders can be found at https://www.epa.gov/laws-regulations/laws-and-executive-orders.

A. Executive Order 12866: Regulatory Planning and Review and Executive Order 13563: Improving Regulation and Regulatory Review

This action is not a significant regulatory action and was therefore not submitted to the Office of Management and Budget (OMB) for review.

B. Paperwork Reduction Act (PRA)

This action does not impose an information collection burden under the PRA because this action does not impose additional requirements beyond those imposed by state law.

C. Regulatory Flexibility Act (RFA)

I certify that this action will not have a significant economic impact on a substantial number of small entities under the RFA. This action will not impose any requirements on small entities beyond those imposed by state law.

D. Unfunded Mandates Reform Act (UMRA)

This action does not contain any unfunded mandate as described in UMRA, 2 U.S.C. 1531-1538, and does not significantly or uniquely affect small governments. This action does not impose additional requirements beyond those imposed by state law. Accordingly, no additional costs to state, local, or tribal governments, or to the private sector, will result from this action.

E. Executive Order 13132: Federalism

This action does not have federalism implications. It will not have substantial direct effects on the states, on the relationship between the national government and the states, or on the distribution of power and responsibilities among the various levels of government.

F. Executive Order 13175: Coordination With Indian Tribal Governments

This action does not have tribal implications, as specified in Executive Order 13175, because the SIP is not approved to apply on any Indian reservation land or in any other area where the EPA or an Indian tribe has demonstrated that a tribe has jurisdiction, and will not impose substantial direct costs on tribal governments or preempt tribal law. Thus, Executive Order 13175 does not apply to this action.

G. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it does not impose additional requirements beyond those imposed by state law.

H. Executive Order 13211: Actions That Significantly Affect Energy Supply, Distribution, or Use

This action is not subject to Executive Order 13211, because it is not a significant regulatory action under Executive Order 12866.

I. National Technology Transfer and Advancement Act (NTTAA)

Section 12(d) of the NTTAA directs the EPA to use voluntary consensus standards in its regulatory activities unless to do so would be inconsistent with applicable law or otherwise impractical. The EPA believes that this action is not subject to the requirements of section 12(d) of the NTTAA because application of those requirements would be inconsistent with the CAA.

J. Executive Order 12898: Federal Actions To Address Environmental Justice in Minority Populations and Low-Income Population

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

The District did not evaluate environmental justice considerations as part of its SIP submittal; the CAA and applicable implementing regulations neither prohibit nor require such an evaluation. The EPA did not perform an EJ analysis and did not consider EJ in this action. Consideration of EJ is not required as part of this action, and there is no information in the record inconsistent with the stated goals of E.O. 12898 of achieving environmental justice for people of color, low-income populations, and indigenous peoples.

K. Congressional Review Act (CRA)

This action is subject to the CRA, and the EPA will submit a rule report to each House of the Congress and to the Comptroller General of the United States. This action is not a “major rule” as defined by 5 U.S.C. 804(2).

L. Petitions for Judicial Review

Under section 307(b)(1) of the Clean Air Act, petitions for judicial review of this action must be filed in the United States Court of Appeals for the appropriate circuit by August 29, 2023. Filing a petition for reconsideration by the Administrator of this final rule does not affect the finality of this rule for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental relations, Nitrogen oxides, Ozone, Reporting and recordkeeping requirements, Volatile organic compounds.

Authority: 42 U.S.C. 7401 et seq.

Dated: June 22, 2023.
Martha Guzman Aceves,
Regional Administrator, Region IX.

For the reasons stated in the preamble, the Environmental Protection Agency amends part 52, chapter I, title 40 of the Code of Federal Regulations as follows:

PART 52—APPROVAL AND PROMULGATION OF IMPLEMENTATION PLANS

1. The authority citation for part 52 continues to read as follows:

Authority: 42 U.S.C. 7401 et seq.

Subpart F—California

2. Section 52.220 is amended by adding paragraph (c)(599) to read as follows:

§ 52.220 Identification of plan-in part.

* * * * *

(c) * * *

(599) The following plan was submitted on May 5, 2017, by the Governor's designee as an attachment to a letter dated May 5, 2017.

(i) [Reserved]

(ii) Additional Materials.

(A) Sacramento Metropolitan Air Quality Management District.

(1) Reasonably Available Control Technology (RACT) State Implementation Plan (SIP) for the 2008 8-Hour Ozone National Ambient Air Quality Standards (NAAQS) (“Demonstration of Reasonably Available Control Technology for the 2008 Ozone NAAQS”), as adopted on March 23, 2017, except the RACT determination for non-CTG major sources of NOX.

(2) [Reserved]

* * * * *

3. Section 52.222 is amended by revising paragraph (a)(2)(v) to read as follows:

§ 52.222 Negative declarations.

* * * * *

(a) * * *

(2) * * *

(v) The following negative declarations for the 2008 ozone NAAQS were adopted by the Sacramento Metropolitan Air Quality Management District.

CTG document No. | Title | Adopted: 3/22/2018 Submitted: 6/11/2018 SIP approved: 11/19/2020 | Adopted: 3/23/2017 Submitted: 5/5/2017 SIP approved: 6/30/2023
(A) EPA-450/2-77-008 | Control of Volatile Organic Emissions from Existing Stationary Sources—Volume II: Surface Coating of Coils |  | X
(B) EPA-450/2-77-008 | Control of Volatile Organic Emissions from Existing Stationary Sources—Volume II: Surface Coating of Paper |  | X
(C) EPA-450/2-77-008 | Control of Volatile Organic Emissions from Existing Stationary Sources—Volume II: Surface Coating of Fabrics |  | X
(D) EPA-450/2-77-008 | Control of Volatile Organic Emissions from Existing Stationary Sources—Volume II: Surface Coating of Automobiles and Light-Duty Trucks |  | X
(E) EPA-450/2-77-025 | Control of Refinery Vacuum Producing Systems, Wastewater Separators, and Process Unit Turnarounds |  | X
(F) EPA-450/2-77-033 | Control of Volatile Organic Emissions from Existing Stationary Sources—Volume IV: Surface Coating of Insulation of Magnet Wire |  | X
(G) EPA-450/2-77-034 | Control of Volatile Organic Emissions from Existing Stationary Sources—Volume V: Surface Coating of Large Appliances |  | X
(H) EPA-450/2-78-030 | Manufacture of Pneumatic Rubber Tires |  | X
(I) EPA-450/2-78-032 | Factory Surface Coating of Flat Wood Paneling |  | X
(J) EPA-450/2-78-033 | Graphic Arts—Rotogravure and Flexography (Rotogravure only) |  | X
(K) EPA-450/2-78-03 | Leaks from Petroleum Refinery Equipment |  | X
(L) EPA-450/3-82-009 | Large Petroleum Dry Cleaners |  | X
(M) EPA-450/3-83-007 | Leaks from Natural Gas/Gasoline Processing Plants |  | X
(N) EPA-450/3-83-008 | Manufacture of High-Density Polyethylene, Polypropylene, and Polystyrene Resins |  | X
(O) EPA-450/3-84-015 | Air Oxidation Processes in Synthetic Organic Chemical Manufacturing Industry |  | X
(P) EPA-453/R-94-032 | Alternative Control Technology Document—Surface Coating Operations at Shipbuilding and Ship Repair Facilities Shipbuilding and Ship Repair Operations (Surface Coating), see the Federal Register of 08/27/96. |  | X
(Q) EPA-453/R-97-004 | Control of Volatile Organic Compound Emissions from Coating Operations at Aerospace Manufacturing and Rework Operations Aerospace MACT, see the Federal Register of 06/06/94. |  | X
(R) EPA-453/R-06-004 | Flat Wood Paneling Coatings |  | X
(S) EPA 453/R-07-003 | Paper, Film, and Foil Coatings |  | X
(T) EPA 453/R-07-004 | Large Appliance Coatings |  | X
(U) EPA 453/R-08-003 | Miscellaneous Metal and Plastic Parts Coatings (Table 5—Pleasure Craft Surface Coating) | X |
(V) EPA 453/R-08-004 | Fiberglass Boat Manufacturing Materials |  | X
(W) EPA 453/R-08-005 | Miscellaneous Industrial Adhesives |  | X
(X) EPA 453/R-08-006 | Automobile and Light-Duty Truck Assembly Coatings |  | X

* * * * *

4. Section 52.237 is amended by removing and reserving paragraph (b)(1)(i), and adding paragraph (b)(1)(iii) to read as follows:

§ 52.237 Part D disapproval.

* * * * *

(b) * * *

(1) * * *

(iii) RACT determination for non-CTG major sources of Nitrogen Oxides (NOX) for the 2008 ozone NAAQS, as contained in the submittal titled “Demonstration of Reasonably Available Control Technology for the 2008 Ozone NAAQS”, as adopted on March 23, 2017, and submitted on May 5, 2017.

* * * * *

[FR Doc. 2023-13744 Filed 6-29-23; 8:45 am]

BILLING CODE 6560-50-P